DEPARTMENT OF ENERGY

Federal Energy Regulatory Commission

Combined Notice of Filings

Take notice that the Commission has received the following Natural Gas Pipeline Rate and Refund Report filings:

Filings Instituting Proceedings

Docket Numbers: RP18-1087-000.

Applicants: Bison Pipeline LLC.

Description: § 4(d) Rate Filing: Bison Tenaska Non-Conforming Agreement to be effective 1/14/2019.

Filed Date: 8/29/18.

Accession Number: 20180829-5138.

Comments Due: 5 p.m. ET 9/10/18.

Docket Numbers: RP18-1088-000.

Applicants: Elba Express Company, L.L.C.

Description: § 4(d) Rate Filing: Shell Negotiated Rate 9/10/18 to be effective 9/10/2018.

Filed Date: 8/29/18.

Accession Number: 20180829-5103.

Comments Due: 5 p.m. ET 9/10/18.

Docket Numbers: RP18-1089-000.

Applicants: Algonquin Gas Transmission, LLC.

Description: § 4(d) Rate Filing: Negotiated Rate—Plymouth to Macquarie 797391 to be effective 9/1/2018.

Filed Date: 8/29/18.

Accession Number: 20180829-5105.

Comments Due: 5 p.m. ET 9/10/18.

Docket Numbers: RP18-1090-000.

Applicants: Algonquin Gas Transmission, LLC.

Description: § 4(d) Rate Filing: Negotiated Rate—Boston Gas to BBPC 797311 to be effective 9/1/2018.

Filed Date: 8/29/18.

Accession Number: 20180829-5111.

Comments Due: 5 p.m. ET 9/10/18.

Docket Numbers: RP18-1091-000.

Applicants: Texas Eastern Transmission, LP.

Description: § 4(d) Rate Filing: Negotiated Rate—Chevron to Colonial K8952768 to be effective 9/1/2018.

Filed Date: 8/29/18.

Accession Number: 20180829-5114.

Comments Due: 5 p.m. ET 9/10/18.

Docket Numbers: RP18-1092-000.

Applicants: Sierrita Gas Pipeline LLC.

Description: § 4(d) Rate Filing: Revenue Sharing Update to be effective 10/1/2018.

Filed Date: 8/29/18.

Accession Number: 20180829-5137.

Comments Due: 5 p.m. ET 9/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2018.
Nathaniel J. Davis, Sr.,
Deputy Secretary.

[FR Doc. 2018-19265 Filed 9-5-18; 8:45 am]

BILLING CODE 6717-01-P